DEPARTMENT OF HEALTH AND HUMAN SERVICES

Centers for Disease Control and Prevention

Disease, Disability, and Injury Prevention and Control Special Emphasis Panel (SEP): Initial Review

The meeting announced below concerns the Centers for Disease Control and Prevention (CDC) initial review of applications in response to Funding Opportunity Announcement (FOA) GH17-002, Program Development and Research to Establish and Evaluate Innovative and Emerging Best Practices in Clinical and Community Services through the Presidents Emergency Plan for AIDS Relief (PEPFAR); GH17-003, Conducting Public Health Research in South Africa; GH17-004, Conducting Public Health Research Activities in Egypt.

Summary: This publication corrects a notice that was published in the Federal Register on April 4, 2017, Volume 82, Number 63, page 16403. The meeting announcement, meeting date, and matters for discussion should read as follows:

The meeting announced below concerns the Centers for Disease Control and Prevention (CDC) initial review of applications in response to Funding Opportunity Announcements GH17-002, Program Development and Research to Establish and Evaluate Innovative and Emerging Best Practices in Clinical and Community Services through the President's Emergency Plan for AIDS Relief (PEPFAR); and GH17-003, Conducting Public Health Research in South Africa.

Time and Date: 9:00 a.m.-2:00 p.m., EDT, April 25, 2017, Panel A (Closed).

Matters for Discussion: The meeting will include the initial review, discussion, and evaluation of applications received in response to “Program Development and Research to Establish and Evaluate Innovative and Emerging Best Practices in Clinical and Community Services through the President's Emergency Plan for AIDS Relief (PEPFAR)”, FOA GH17-002; and “Conducting Public Health Research in South Africa”, FOA GH17-003.

For Further Information Contact: Hylan Shoob, Scientific Review Officer, Center for Global Health (CGH) Science Office, CGH, CDC, 1600 Clifton Road NE., Mailstop D-69, Atlanta, Georgia 30033, Telephone: (404) 639-4796, HSHOOB@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-07595 Filed 4-13-17; 8:45 am]

BILLING CODE 4163-18-P